DEPARTMENT OF THE INTERIOR

Fish and Wildlife Service

[FWS-R9-MB-2012-N152; FF09M21200-123-FXMB1231099BPP0L2]

Proposed Information Collection; Depredation Orders for Double-Crested Cormorants

AGENCY: Fish and Wildlife Service, Interior.

ACTION: Notice; request for comments.

SUMMARY: We (U.S. Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on January 31, 2013. We may not conduct or sponsor and a person is not required to respond to a collection of information unless it displays a currently valid OMB control number.

DATES: To ensure that we are able to consider your comments on this IC, we must receive them by September 7, 2012.

ADDRESSES: Send your comments on the IC to the Service Information Collection Clearance Officer, U.S. Fish and Wildlife Service, MS 2042-PDM, 4401 North Fairfax Drive, Arlington, VA 22203 (mail); or INFOCOL@fws.gov (email). Please include “1018-0121” in the subject line of your comments.

FOR FURTHER INFORMATION CONTACT: To request additional information about this IC, contact Hope Grey at INFOCOL@fws.gov (email) or 703-358-2482 (telephone).

SUPPLEMENTARY INFORMATION:

I. Abstract

This information collection is associated with regulations implementing the Migratory Bird Treaty Act (MBTA) (16 U.S.C. 703 et seq.). Under the MBTA, it is unlawful to take, possess, import, export, transport, sell, purchase, barter, or offer for sale, purchase, or barter, migratory birds or their parts, nests, or eggs, except as authorized by regulations implementing the MBTA.

The regulations in the Code of Federal Regulations (CFR) at 50 CFR 21.47 (Aquaculture Depredation Order) authorize aquaculture producers and the U.S. Department of Agriculture (APHIS-Wildlife Services) in 13 States to take double-crested cormorants when the birds are found committing or about to commit depredations on commercial freshwater aquaculture stocks. The regulations at 50 CFR 21.48 (Public Resource Depredation Order) authorize State fish and wildlife agencies, APHIS-Wildlife Services, and federally recognized tribes in 24 States to take double-crested cormorants to prevent depredations on the public resources of fish, wildlife, plants, and their habitats.

Both 50 CFR 21.47 and 21.48 impose reporting and recordkeeping requirements on those operating under the depredation orders. We use the information collected to:

• Help assess the impact of the depredation orders on double-crested cormorant populations.

• Protect nontarget migratory birds or other species.

• Ensure that agencies and individuals are operating in accordance with the terms, conditions, and purpose of the orders.

• Help gauge the effectiveness of the orders at mitigating cormorant-related damages.

II. Data

OMB Control Number: 1018-0121.

Title: Depredation Orders for Double-Crested Cormorants, 50 CFR 21.47 and 21.48.

Service Form Number(s): None.

Type of Request: Extension of a currently approved collection.

Description of Respondents: Aquaculture producers, States, and tribes.

Respondent's Obligation: Required to obtain or retain a benefit.

Frequency of Collection: Annually for reports; ongoing for recordkeeping.

Activity | Number of respondents | Number of responses | Completion time per response (hours) | Total annual burden hours
Report take of migratory bird species other than double-crested cormorants (21.47(d)(7); 21.48(d)(7)) | 1 | 1 | 1 | 1
Report take of species protected under Endangered Species Act (21.47(d)(8); 21.48(d)(8)) | 1 | 1 | 1 | 1
Written notice of intent to conduct control activities (21.48(d)(9)) | 12 | 12 | 3 | 36
Report of control activities (21.48(d)(10) and (11)) | 12 | 12 | 20 | 240
Report effects of management activities (21.48(d)(12)) | 9 | 9 | 75 | 675
Recordkeeping (21.47(d)(9)) | 325 | 325 | 7 | 2,275
Totals | 360 | 360 |  | 3,228

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: June 29, 2012.
Tina A. Campbell,
Chief, Division of Policy and Directives Management, U.S. Fish and Wildlife Service.

[FR Doc. 2012-16664 Filed 7-6-12; 8:45 am]

BILLING CODE 4310-55-P